DEPARTMENT OF ENERGY

Federal Energy Regulatory Commission

[Docket No. EC04-67-000, et al.]

Astoria Energy, LLC, et al.; Electric Rate and Corporate Filings

April 22, 2004.

The following filings have been made with the Commission. The filings are listed in ascending order within each docket classification.

1. Astoria Energy, LLC and Caisse de depot et placement Du Quebec

[Docket No. EC04-67-001]

Take notice that on April 19, 2004, Astoria Energy, LLC (Astoria) and Caisse de depot et placement due Quebec (CDP) filed with the Federal Energy Regulatory Commission an application pursuant to section 203 of the Federal Power Act for authorization for CDP to invest a portion of its financial interest in Astoria in the form of debt. The application seeks privileged treatment of one exhibit.

Comment Date: May 3, 2004.

2. Advantage Energy, Inc. and WPS Energy Services, Inc.

[Docket No. EC04-97-000]

Take notice that on April 19, 2004, WPS Energy Services, Inc. (WPS-ESI) and Advantage Energy, Inc. (Advantage) (jointly, Applicants) tendered for filing pursuant to section 203 of the Federal Power Act (FPA), 16 U.S.C. 824b, and part 33 of the Commission's regulations, 18 CFR part 33, an Application in which they request authorization to transfer the common equity of Advantage through a series of steps, referred to as the “Transaction” to WPS-ESI or its designee. Applicants state that the Transaction will result in no change in ownership of or control over generation, including generation subject to long-term contracts and will have no adverse effect on competition, rates or regulation, and that it should be approved by the Commission as in the public interest. Applicants request that such approval be issued within 60 days.

Comment Date: May 10, 2004.

3. Meiya Sanjiang Hydropower Limited

[Docket No. EG04-53-000]

On April 20, 2004, Meiya Sanjiang Hydropower Limited (MSH), with its principal office at Ugland House, South Church Street, George Town, Grand Cayman, Cayman Islands, filed with the Federal Energy Regulatory Commission (Commission) an application for determination of exempt wholesale generator status pursuant to part 365 of the Commission(s regulations.

MSH states that it is a company organized under the laws of Cayman Islands. MSH further states it will be engaged, directly or indirectly through an affiliate as defined in section 2(a)(11)(B) of the Public Utility Holding Company Act of 1935 (PUHCA), exclusively in owning, operating, or both owning and operating, a hydropower electric generating facility with a total output of approximately 45 megawatts consisting of three turbines and generators and certain additional incidental facilities, located in Mianyang, Sichuan province, People's Republic of China. MSH will through an affiliate sell electric energy at wholesale from the facility and may engage in other incidental activities with respect thereto consistent with PUHCA.

Comment Date: May 11, 2004.

4. Central Maine Power Company

[Docket No. ER04-425-001]

Please take notice that on April 19, 2004, Central Maine Power Company (CMP) submitted Unexecuted Continuing Site/Interconnection Agreements (CSIAs') between CMP and the following entities: FPL Energy Maine, Inc., Kezar Falls Hydro, LLC, Ledgemere Hydro, LLC, and Messalonskee Stream Hydro, LLC. CMP requests the Commission an effective date of December 23, 2003.

Comment Date: May 10, 2004.

5. Southwest Power Pool, Inc.

[Docket No. ER04-434-001]

Take notice that on April 19, 2004, Southwest Power Pool, Inc. (SPP) submitted to the Commission a compliance filing providing for changes to its currently effective Open Access Transmission Tariff (OATT) pursuant to the Commission's order issued March 19, 2004, 106 FERC ¶ 61, 254. SPP states that it filed proposed revisions to its standard Large Generator Interconnection Agreement (LGIA) and Large Generator Interconnection Procedures (LGIP), in accordance with Order No. 2003. In addition, SPP also states that it submitted an Agreement for the Allocation of Responsibilities with Regard to Generator Procedures and Interconnections as an addendum to its compliance filing. SPP requested the Commission to accept its filing and make it effective as of April 26, 2004 in order to accommodate the modifications made to the pro forma LGIP and LGIA by Order No. 2003-A.

SPP states that it has served a copy of its transmittal letter on each of its Members and Customers, as well as on all generators in existing generation queue. A complete copy of this filing will be posted on the SPP Web site www.spp.org, and is also being served on all affected State commissions.

Comment Date: May 10, 2004.

6. PJM Interconnection, L.L.C.

[Docket No. ER04-521-003]

Take notice that on April 19, 2004, PJM Interconnection, L.L.C. (PJM) submitted in compliance with the Commission's March 18, 2004, order, revisions to Schedule 17 of the PJM West Reliability Assurance Agreement Among Load-Serving Entities in the PJM West Region to apportion capacity obligations of load-serving entities in the Commonwealth Edison Company (ComEd) transmission zone for each seasonal interval based on each LSE's load ratio share of the summer peak in that zone. PJM states that the submitted sheets reflect an effective date of May 1, 2004, consistent with the date for ComEd's integration previously requested in this proceeding.

PJM states that copies of the filing were served on all PJM members, the utility regulatory commissions in the PJM region, and all persons on the Commission's service list for this proceeding.

Comment Date: May 10, 2004.

7. EnergyWindow, Inc.

[Docket No. ER04-584-001]

Take notice that on April 19, 2004, PJM Energy Window, Inc. (EnergyWindow) tendered for filing an amendment to its petition filed February 19, 2004, in response to the Commission's deficiency letter dated March 23, 2004.

Comment Date: May 10, 2004.

8. BP West Coast Products LLC—Wilmington Calciner

[Docket No. ER04-611-001]

Take notice that on April 19, 2004, BP West Coast Products LLC—Wilmington Calciner (BP West Coast Products LLC) submitted Second Revised Volume No. 1 of its Market-Based Rate Power Sales Tariff to reflect a change of name from Arco CQC Kiln, Inc. to BP West Coast Products LLC—Wilmington Calciner and to incorporate the Market Behavior rules adopted by the Commission in the order issued November 17, 2003, in Docket No. EL01-118-000, 105 FERC 61,218.

Comment Date: April 29, 2004.

9. PPL Electric Utilities Corporation

[Docket No. ER04-612-002]

Take notice that on April 19, 2004, PPL Electric Utilities Corporation (PPL Electric) filed an executed Coordination Agreement between PPL Electric and the Borough of Ephrata, Pennsylvania. PPL Electric states that the terms and conditions of the executed Coordination Agreement do not differ from the unexecuted version of the Coordination Agreement that was filed Docket No. ER04-612-001 on March 25, 2004.

PPL Electric states that it has served a copy of this filing on the Borough of Ephrata.

Comment Date: May 10, 2004.

10. PJM Interconnection, L.L.C.

[Docket No. ER04-653-001]

Take notice that on April 22, 2004, PJM Interconnection, L.L.C. (PJM) submitted for filing an update on recent developments concerning financial transmission rights for customers using transmission facilities in the zone of Commonwealth Edison Company (ComEd).

Comment Date: April 27, 2004.

11. Pacific Gas and Electric Company

[Docket Nos. ER04-743-000 and ER04-377-001]

On March 22, 2004, Pacific Gas and Electric Company (PG&E) submitted a filing concerning a Generator Special Facilities Agreement and a Generator Interconnection Agreement between PG&E and Sunrise Power Company, LLC. The filing was docketed as ER04-377-001.

Examination of PG&E's filing shows that it was submitted under section 205 of the Federal Power Act and, in accordance with the Commission's business practice, it should have been assigned a new docket number. Accordingly, by this notice, we are redocketing all records filed in ER04-377-001 to a new docket number, ER04-743-000, as indicated in the caption of this notice. All pleadings filed in Docket No. ER04-377-001 will now be docketed in the new docket number, ER04-743-000. No further interventions or protests need be filed, and Docket No. ER04-377-001 is hereby terminated.

Comments on this notice are not necessary.

12. Southern California Edison Company

[Docket No. ER04-747-000]

Take notice, that on April 19, 2004, Southern California Edison Company (SCE) tendered for filing a new rate sheet for the Interconnection Facilities Agreement (Interconnection Agreement) between SCE and The Wind Turbine Company (WTC). SCE states that the new rate sheet, identified as Exhibit C, reflects removal costs for the equipment associated with the Interconnection Agreement. SCE also submitted a Notice of Cancellation of the Interconnection Agreement and the associated Service Agreement For Wholesale Distribution Service between SCE and WTC. SCE requests waiver of the 60-day prior notice requirements specified in section 35.3 and requests the Commission to assign an effective date of May 12, 2004, to the New Sheet and the revised rate sheets reflecting the Notice of Cancellation.

SCE states that copies of this filing were served upon the Public Utilities Commission of the State of California and WTC.

Comment Date: May 10, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. E4-996 Filed 4-30-04; 8:45 am]

BILLING CODE 6717-01-P